DEPARTMENT OF ENERGY

Federal Energy Regulatory Commission

[Docket No. CP02-128-000]

Destin Pipeline Company, L.L.C.; Notice of Application

April 5, 2001.

Take notice that on March 29, 2002, Destin Pipeline Company, L.L.C. (Destin), 501 WestLake Park Boulevard, Houston, Texas 77079-2696, filed in Docket No. CP02-128-000 an application pursuant to section 7(c) of the Natural Gas Act (NGA) and part 157 of the Federal Energy Regulatory Commission' s (Commission) regulations for a certificate of public convenience and necessity authorizing Destin to make modifications at its Pascagoula Gas Plant, located in Jackson County, Mississippi, all as more fully set forth in the application which is on file with the Commission and open to public inspection. The filing may be viewed on the Web at http://www.ferc.gov using the “RIMS” link, select “Docket #” from the RIMS Menu and follow the instructions (call (202) 208-222 for assistance).

Specifically, Destin requests authorization to add an additional gas scrubber and 16-inch ultrasonic gas meters at the inlet and outlet of the gas plant. The additional facilities will have the same design features as the current facilities. These modifications will increase Destin's current design capacity from the current 1.0 Billion cubic feet (Bcf) per day to 1.2 Bcf per day.

The estimated cost of the project is approximately $1.2 million. All costs of the project will be borne by Destin Pipeline Company. Destin requests that a final certificate order be issued no later than June 1, 2002, in order to complete the project by October 1, 2002.

Any questions regarding this application should be directed to Mr. Bruce G. Reed, Director, Regulatory Affairs, Destin Pipeline Company, L.L.C., 501 WestLake Park Boulevard, Houston, Texas 77079-2696 or call (281) 366-5062.

There are two ways to become involved in the Commission's review of this project. First, any person wishing to obtain legal status by becoming a party to the proceedings for this project should, on or before April 15, 2002, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments and protests may be filed electronically via the internet in lieu of paper. See, 18 CFR 385.2001(a)(1)(iii) and the instructions on the Commission's Web site under the “e-Filing” link.

If the Commission decides to set the application for a formal hearing before an Administrative Law Judge, the Commission will issue another notice describing that process. At the end of the Commission's review process, a final Commission order approving or denying a certificate will be issued.

Linwood A. Watson, Jr.,
Deputy Secretary.

[FR Doc. 02-8899 Filed 4-11-02; 8:45 am]

BILLING CODE 6717-01-P